DEPARTMENT OF COMMERCE

National Oceanic and Atmospheric Administration

[Docket No.: 071213835-7836-01]

RIN: 0648-ZB84

Availability of Draft Guidelines for the Marine Debris Program Grant Program

AGENCY: National Ocean Service (NOS), National Oceanic and Atmospheric Administration (NOAA), Department of Commerce.

ACTION: Request for Comments on Proposed Guidelines for NOAA's Marine Debris Program Grant Program.

SUMMARY: NOAA's Office of Response and Restoration, National Ocean Service, is issuing guidelines to implement the Marine Debris Program (MDP) grant program. The MDP was created by the Marine Debris Research, Prevention, and Reduction Act (33 U.S.C. 1951 et seq.) to coordinate, strengthen, and enhance the awareness of marine debris efforts within the agency and work with external partners to support research, prevention, and reduction activities related to the issue of marine debris. The NOAA MDP mission is to support a national and international effort focused on preventing, identifying and removing marine debris and to protect and protect our nation's natural resources, oceans, and coastal waterways from the impacts of marine debris. Within the Act, the MDP is directed to develop formal guidelines for the implementation of a grant program and is seeking comments on the proposed grant program guidelines through this document.

DATES: The agency must receive comments concerning this document on or before April 21, 2008.

ADDRESSES: Please send your comments by e-mail to: NOAA.MarineDebris.FRNcomments@noaa.gov or by mail to: Sarah E. Morison, NOAA Marine Debris Program Coordinator, Office of Response and Restoration, N/ORR, SSMC4, 10th floor, 1305 East-West Highway, Silver Spring, MD, 20910.

FOR FURTHER INFORMATION CONTACT: Sarah E. Morison, Tel: 301-713-2989 x120 or by e-mail at: Sarah.Morison@NOAA.gov.

SUPPLEMENTARY INFORMATION: NOAA's Marine Debris Program (MDP) serves as a centralized marine debris capability within NOAA in order to coordinate, strengthen, and increase the visibility of marine debris issues and efforts within the agency, its partners, and the public. The NOAA MDP mission is to support a national and international effort focused on preventing, identifying and removing marine debris and to protect and protect our nation's natural resources, oceans, and coastal waterways from the impacts of marine debris. Additionally, the MDP supports and works closely with various partners across the U.S. to fulfill the Program's mission. The proposed guidelines implementing the MDP's grant program are set forth below.

Electronic Access

Information on the MDP can be found on the World Wide Web at: http://marinedebris.noaa.gov,

The proposed guidelines implementing the MDP grant program are set forth below.

NOAA MARINE Debris Program Grant Program Guidelines

Section 1. Goals and Objectives

The Marine Debris Research, Prevention, and Reduction Act (the Act) (33 U.S.C. 1951 et seq.) establishes a marine debris program within the National Oceanic and Atmospheric Administration (NOAA) to reduce and prevent the occurrence and adverse impacts of marine debris on the marine environment and navigation, through activities such as:

• Mapping, identification, impact assessment, removal, and prevention;

• Reducing and preventing loss of fishing gear; and

• Outreach.

The Act also directs the Administrator to provide financial assistance in the form of grants to accomplish the Act's purpose of identifying, determining sources of, assessing, reducing, and preventing marine debris and its adverse impacts on the marine environment, living marine resources, and navigation safety.

The Act further directs the Administrator to issue guidelines for the implementation of the grant program, including development of criteria and priorities for grants, in consultation with the Interagency Marine Debris Coordinating Committee; regional fishery management councils established under the Magnuson-Stevens Fishery Conservation and Management Act; state, regional, and local governmental entities with marine debris experience; marine-dependent industries; and nongovernmental organizations involved in marine debris research, prevention, and removal activities.

The grant program's objective is to bring together groups, public and non-profit organizations, industry, academia, commercial organizations, corporations and businesses, youth conservation corps, students, landowners, and local governments, and state and Federal agencies to implement marine debris-related projects to support NOAA's mission, “to understand and predict changes in Earth's environment and conserve and manage coastal and marine resources to meet our Nation's economic, social, and environmental needs.” These diverse entities will be sought at the national, state, and local level to contribute funding, technical assistance, workforce support or other in-kind services to allow citizens to take responsibility for the improvement of important, living marine resources, their habitats and other uses of the ocean that are impacted by marine debris.

Section 2. Purpose of the Guidelines

These guidelines provide information for potential applicants to the NOAA Marine Debris Program's (MDP) grant program. In regard to MDP grants that may be awarded by NOAA through competitive solicitations, the guidelines explain the grant program goals and objectives, and the implementation of the competitive grant program.

In order to accomplish its comprehensive mission, the MDP anticipates using two different approaches in designing its grant program. First, the MDP will solicit recipients who will work directly on individual projects related to relevant marine debris issues. Second, the MDP will solicit diverse entities which will be funded to engage actively in establishing partnership arrangements with other organizations with the purpose of cooperatively implementing marine debris-related projects to benefit NOAA trust resources. The entities selected to establish these partnerships will assume the administrative responsibilities, such as awarding contracts and managing progress and financial reports, for making subawards to accomplish individual projects.

Section 3. Definition of Terms

Act—Marine Debris Research, Prevention, and Reduction Act (P.L. 109-449,33 U.S.C. 1951 et seq.)

Administrator—The Administrator of the National Oceanic and Atmospheric Administration.

Marine Debris—TBD, currently being written with USCG.

MDP—Marine Debris Program, within the NOAA National Ocean Service, Office of Response and Restoration.

NOAA—The National Oceanic and Atmospheric Administration, within the U.S. Department of Commerce.

State—Any State of the United States, American Samoa, Guam, the Commonwealth of the Northern Mariana Islands, the Commonwealth of Puerto Rico, and the U.S. Virgin Islands, as well as any other territory or possession of the United States, or separate sovereign in free association with the United States.

Section 4. Eligible Participants

In accordance with section 3(c)(4) of the Act, any state, local or tribal government whose activities affect research or regulation of marine debris and any institution of higher education; nonprofit organization, Regional Fishery Management Councils, or commercial organization, with expertise in a field related to marine debris, is, eligible to submit a marine debris proposal under this grant program. Individuals may also apply. Federal agencies are not eligible to apply for funding through any opportunity covered by these guidelines; however, they are encouraged to work in partnership with state agencies, municipalities, and community groups who may apply.

Section 5. Activities To Address Marine Debris

Generally, the MDP grant program is interested in funding projects that address one or more activities specified in the Act, including:

• Mapping, identification, impact assessment, removal and prevention of marine debris;

• Reducing and preventing the loss of fishing gear;

• Outreach and education; and

• Assisting in maintaining an up-to-date Federal marine debris information clearinghouse.

The MDP anticipates that proposed projects, either funded directly through NOAA or through entities selected to leverage funding through partnership arrangements with other organizations, should clearly demonstrate anticipated benefits to:

• Aquatic habitats, including but not limited to, salt marshes, seagrass beds, coral reefs, mangrove forests, or other sensitive aquatic habitats;

• Species, including marine mammals, commercial and non-commercial fishery resources; endangered and threatened marine species, seabirds, or other NOAA trust resources;

• Navigation safety; or

• Other aspects of the marine environment.

Research-focused projects should explicitly state the hypothesis or purpose of the research, the methods that will be used, and how the results may be used and analyzed to better understand or decrease the impacts or amount of marine debris in the environment. Research projects are not required to have an outreach component; however, they should include a method for sharing project results with other researchers and relevant parties.

Prevention-focused projects should have a component that is able to measure the success of the activity within a target audience or debris type.

Reduction-focused projects should emphasize reduction and prevention within local, state or regional plans. Removal of debris should result in benefits to the species and habitats listed in this section of these guidelines, and respond to a local, state or regional prioritization method. Projects that make debris less harmful while in the environment are also considered reduction-focused. Examples of this type of project are modifications to fishing gear so that, if lost, there is a mechanism for trapped animals to escape or a way to reduce the gear's fishing efficiency.

Outreach projects should be focused enough to achieve results within a target audience; be able to measure the attitudes and behaviors of the target audience before and after the project, convey the importance of marine debris issues, and have tangible products.

The Federal marine debris information clearinghouse, as of early 2008, has not yet been organized. Its status will be updated and provided in any funding opportunity announcement that lists maintaining the clearinghouse as a priority to focus project proposals.

The MDP anticipates that funding opportunities will note the priorities in the selection of applications in the competitive announcements. Such priorities may note that applications would be more likely to be successful if they demonstrated a clear need for the proposed action(s), assisted the nation in gaining a better understanding of, or addressing, marine debris, and have clear results within the priorities of the applicable funding opportunity. Monitoring or performance evaluation components to address the long-term success of the project are also encouraged. As is warranted, the MDP may develop other selection priorities for inclusion in the funding opportunities.

The MDP anticipates that non-research projects requesting funds predominantly for administration, salaries, and overhead may be discouraged in light of the fact that the majority of funds should be used for activities that would otherwise not be undertaken. Actual uses of the funds would depend on the type and focus of the project.

Section 6. Cost-Sharing Requirement

Section 3(c)(2)(A) of the Act (33 U.S.C. 1952(c)(2)(A)) states Federal funds may not exceed 50 percent of the total cost of a project under this Program. The competitive funding opportunities will set out how the match requirement may be met, such as through volunteer hours, and will vary depending on the entities selected for funding. Section 3(C)(2)(B) provides that a waiver of the match may be allowed if the Administrator determines the project meets the following two requirements:

(1) No reasonable means are available through which applicants can meet the matching requirement, and

(2) The probable benefit of such project outweighs the public interest in the matching requirement.

Any applicant interested in requesting a waiver should provide a detailed justification explaining the need for the waiver including attempts to obtain sources of matching funds, how the benefit of the project outweighs the public interest in providing match, and any other extenuating circumstances preventing the availability of match.

In addition, the Act provides, in section 3(c)(3)(A), that if authorized by the Administrator or the Attorney General, the non-Federal share of the cost of a project may include money or the value of any in-kind service performed under an administrative order on consent or judicial consent decree that will remove or prevent marine debris.

Section 7. Funding Mechanisms

The MDP grant program may use new or existing NOAA grant programs as vehicles to fund projects related to the purposes of the Act. The MDP anticipates that competitive funding opportunities will be announced entailing marine debris funding and including funding priorities for the year. Opportunities will be made public through a Notice of Funding Availability (NOFA) published in the Federal Register and posted on http://www.grants.gov. The availability of funding to be awarded through subgrants from NOAA grant recipients, including applicable selection priorities, will be announced through email, Web sites, and press releases.

Section 8. NOAA Funding Sources and Dispersal Mechanisms

The MDP grant program envisions funding projects through cooperative agreements and grants, as appropriate.

A cooperative agreement is a funding mechanism reflecting a relationship between NOAA and a recipient whenever: (1) The principal purpose of the relationship is to transfer funds, services or goods to the recipient for a public purpose, and (2) substantial involvement is anticipated between NOAA and the recipient during performance of the contemplated activity.

A grant is similar to a cooperative agreement, except that in the case of grants, substantial involvement between NOAA and the recipient is not anticipated during the performance of the contemplated activity. Financial assistance is the transfer of money, property, services or anything of value to a recipient in order to accomplish a public purpose of support or stimulation that is authorized by Federal statute.

Each year, the NOAA Marine Debris Program Director will determine the proportion of Program funds that will be allocated to direct project funding through grants and to organizations that will leverage NOAA dollars through partnership arrangements. The proportion of funding to be allocated to these organizations may depend upon the amount of funds available from partnering organizations to leverage NOAA dollars and the ability of partners to help NOAA fund a broad array of projects over a wide geographic distribution.

Section 9. NOAA Selection Guidelines

NOAA's Notice of Funding Availability (NOFA) and accompanying Federal Funding Opportunity (FFO) announcement will contain funding opportunity descriptions, award information, eligibility information, application and submission information, priority funding areas for the year, application review and selection criteria, award administration information, Administrative and National Environmental Policy Act requirements, agency contacts, and other information for potential applicants. In 2000, NOAA adopted five standard evaluation criteria for all its competitive grant programs, as follows:

• Importance and Applicability of Proposal—This criterion ascertains whether there is intrinsic value in the proposed work and/or relevance to NOAA, Federal, regional, state or local activities.

• Technical/Scientific Merit—This criterion assesses whether the approach is technically sound and/or innovative, if the methods are appropriate, and whether there are clear project goals and objectives.

• Overall Qualifications of Applicants—This criterion ascertains whether the applicant possesses the necessary education, experience, training facilities, and administrative resources to accomplish the project.

• Project Costs—This criterion evaluates the budget to determine if it is realistic and commensurate with the project needs and time-frame.

• Outreach, Education, and Community Involvement—NOAA assesses whether the project provides a focused and effective education and outreach strategy regarding NOAA's mission.

Information on how these criteria are specifically applied in the context of the NOAA Marine Debris Program will be described each year in the NOFAs and FFOs for NOAA-funded project awards and for awards to organizations that will issue subawards to fund projects related to marine debris issues.

Section 10. Partnerships With Other Federal Agencies

Should other Federal agencies partner with NOAA to award funding, opportunities will be published in http://www.grants.gov and through such other vehicles as may be appropriate for the particular agency making the solicitation announcement. Examples would be the Federal Register or the particular agencies' Web sites. Application requirements may vary by partner agency and will be specified in the relevant solicitations.

Section 11. Environmental Compliance and Safety

It is the applicant's responsibility to obtain all necessary Federal, state, and local government permits and approvals for the proposed work. Applicants are expected to design their projects so that they minimize the potential for adverse impacts to the environment. NOAA must analyze the potential environmental impacts, as required by the National Environmental Policy Act (NEPA), for applications that seek NOAA funding and which are subject to NOAA control and discretion. Proposals should provide enough detail for NOAA to make a NEPA determination. Successful applications cannot be forwarded to the NOAA Grants Management Division with recommendations for funding until NOAA completes necessary NEPA documentation or determines it does not apply.

Consequently, as part of an applicant's package, and under the description of proposed activities, applicants will be required to provide detailed information on the activities to be conducted, such as site locations, species and habitat(s) to be affected, possible construction activities, and any environmental concerns that may exist (e.g., the use of and/or disposal of hazardous or toxic substances, introduction of non-indigenous species, impacts to endangered and threatened species, impacts to coral reef systems). For partnerships, where project-specific details may not be available at the time an award is made, partners must meet the same environmental compliance requirements on subsequent sub-awards.

In addition to providing specific information that will serve as the basis for any required impact analyses, applicants may also be required to assist NOAA in the drafting of an environmental assessment if NOAA determines an assessment is necessary and that one does not already exist for the activities proposed in the application. Applicants will also be required to cooperate with NOAA in identifying and implementing feasible measures to reduce or avoid any identified adverse environmental impacts of their proposal. The selecting official may decide, at the time of proposal review, to recommend funding a project in phases to enable an applicant to provide information needed for an environmental assessment, feasibility analysis or similar activity if a NEPA determination cannot be made for all activities in a particular application. The selecting official may also impose special award conditions that limit the use of funds for activities that have outstanding environmental compliance requirements. Special award conditions may also be imposed, for example, to ensure that grantees consider and plan for the safety of volunteers, and provide appropriate credit for NOAA and other contributors.

Activities that address marine debris, particularly removal actions, can be dangerous and may require additional safety consideration. The applicant may be requested to submit safety information for activities being considered, to ensure full review and understanding. The selecting official may also impose special award conditions that limit the use of funds for activities that have outstanding safety issues.

Section 12. Funding Ranges

The funding opportunities, number of awards, and funding ranges to be made in future years will depend on the amount of funds appropriated to the MDP annually by Congress. Such information will be published in the NOFA and FFO for each funding opportunity.

Statutory Authority

Marine Debris Research, Prevention, and Reduction Act (33 U.S.C. 1951 et seq.)

Dated: March 7, 2008.
William Corso,
Deputy Assistant Administrator.

[FR Doc. E8-5442 Filed 3-19-08; 8:45 am]

BILLING CODE 3510-JE-M